DEPARTMENT OF TRANSPORTATION

Federal Motor Carrier Safety Administration

[Docket No. FMCSA-2008-0078]

Commercial Driver's License (CDL) Standards; Rotel North American Tours, LLC; Amendment of Exemption

AGENCY: Federal Motor Carrier Safety Administration (FMCSA), DOT.

ACTION: Notice of amendment; request for comments.

SUMMARY: FMCSA announces that the Rotel North American Tours, LLC (Rotel), has applied for amendment of its existing exemption that permits 22 named drivers, employed by Rotel and possessing German CDLs, to operate commercial motor vehicles (CMVs) in the U.S. without a CDL issued by one of the States. Rotel proposes to amend the roster of 22 exempt Rotel drivers in order to substitute three new Rotel drivers for three drivers no longer employed by Rotel. The new Rotel drivers would be subject to all the terms and conditions of the current exemption, including its expiration date of July 30, 2010.

DATES: Comments must be received on or before May 20, 2009.

ADDRESSES: You may submit comments identified by Federal Docket Management System Number FMCSA-2008-0078 by any of the following methods:

• Federal eRulemaking Portal: http://www.regulations.gov. Follow the online instructions for submitting comments.

• Telefax: 1-202-493-2251.

• Mail: Docket Management Facility, U.S. Department of Transportation, 1200 New Jersey Ave., SE., West Building, Ground Floor, Room W12-140, Washington, DC 20590-0001.

• Hand Delivery or Courier: West Building, Ground Floor, Room W12-140, 1200 New Jersey Ave., SE., Washington, DC 20590, between 9 a.m. and 5 p.m., E.T., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: You may search the electronic form of all comments received into any of our dockets by the name of the individual submitting the comment (or signing the comment, if submitted on behalf of an association, business, labor union, etc.). You may review the DOT's complete Privacy Act Statement in the Federal Register published on April 11, 2000 (65 FR 19476) or you may visit http://DocketInfo.dot.gov.

Public Participation: The Federal eRulemaking Portal is available 24 hours each day, 365 days each year. You may obtain electronic submission and retrieval help and guidelines under the “help” section of the Federal eRulemaking Portal Web site. If you want us to notify you that we received your comments, please include a self-addressed, stamped envelope or postcard, or print the acknowledgment page that appears after submitting comments online. Comments received after the comment closing date will be included in the docket, and we will consider late comments to the extent practicable.

FOR FURTHER INFORMATION CONTACT: Mr. Robert F. Schultz, Jr., FMCSA Driver and Carrier Operations Division, Office of Bus and Truck Standards and Operations: Telephone: 202-366-4325. E-mail: MCPSD@dot.gov.

SUPPLEMENTARY INFORMATION:

Background

Section 4007 of the Transportation Equity Act for the 21st Century (Pub. L. 105-178, 112 Stat. 107, June 9, 1998) amended 49 U.S.C. 31315 and 31136(e) to provide FMCSA authority to grant exemptions from its motor carrier safety regulations, including the HOS rules. The procedure for requesting an exemption is prescribed in 49 CFR part 381. FMCSA must publish a notice of each exemption request in the Federal Register (49 CFR 381.315(a)). The Agency must provide the public an opportunity to inspect the information relevant to the application, including any safety analyses that have been conducted, and to comment on the request.

The Agency must review the safety analyses and public comments. Then it may grant the exemption for up to 2 years if it finds “such exemption would likely achieve a level of safety that is equivalent to, or greater than, the level that would be achieved absent such exemption” (49 CFR 381.305). The decision of the Agency must be published in the Federal Register (49 CFR 381.315(b)) with the reason for denying or, in the alternative, the specific person or class of persons receiving the exemption, and the regulatory provision or provisions from which the exemption is granted. The notice must also specify the effective period of the exemption and its terms and conditions.

Rotel provides seasonal motorcoach tours for non-English speaking tourists. The service is unique because the drivers of these buses serve as the tour guides, providing oral commentary to the passengers in their native language, usually German. Rotel states that none of the States of the U.S. will issue CDLs to these drivers because they are not State residents. Until recent years, Rotel drivers were able to obtain a non-resident CDL from certain States. Rotel asserts that without the exemption from the requirement that its drivers have a CDL issued by a State, it would have to terminate these tour operations. Complete details of Rotel's operations can be found in its original application, dated August 27, 2007, which is contained in the docket of this notice.

On July 30, 2008, FMCSA granted, after notice and comment, Rotel's request to allow 22 drivers, each holding a German CDL, to operate Rotel motor coaches in the U.S. without a CDL issued by one of the States as required by 49 CFR 383.23 (73 FR 44313). FMCSA found that these drivers, operating specialty tour buses in the U.S., would “likely achieve a level of safety that is equivalent to, or greater than, the level that would be achieved absent such exemption,” in accordance with 49 CFR 381.305. The 2-year exemption expires on July 30, 2010.

Rotel's Request for Amendment

By letter dated February 6, 2009, supplemented by an e-mail message dated April 9, 2009, Rotel applied for an amendment to its exemption for the sole purpose of replacing three drivers on the original roster of 22 Rotel drivers approved for this exemption. Both documents are available in the docket for this notice. Rotel asks that Jens Radloff, Christian Hafner, and Ludwig Gerlsberger be dropped from that roster, and that, in their place, Rotel employees Klaus Endres, Sebastian Nicki, and Karl-Heinz Schmitz, non-residents of the U.S. and holders of German CDLs, be added to the roster as drivers exempt from the CDL licensing requirement. Rotel believes these three new drivers, like the non-resident Rotel drivers already operating under this exemption, possess sufficient knowledge, skills, and experience to ensure a level of safety that is equivalent to, or greater than, the level of safety that would be obtained by complying with the requirement for a U.S. CDL. If the Agency determines that this amendment should be granted, the three new drivers would be subject to the terms and conditions of the original Rotel exemption.

In accordance with 49 U.S.C. 31315(b)(4) and 31136(e), FMCSA requests public comments on Rotel's request for amendment of its exemption to allow it to substitute three new Rotel CDL drivers for three of the 22 original Rotel CDL drivers granted exemption from 49 CFR 383.23 on July 30, 2008. FMCSA will consider all comments received by close of business on May 20, 2009. All comments will be available for examination in the docket at the location listed under the ADDRESSES section of this notice. The Agency will consider to the extent practicable comments received in the public docket after the closing date of the comment period.

Issued on: April 28, 2009.
Larry W. Minor,
Associate Administrator for Policy and Program Development.

[FR Doc. E9-10209 Filed 5-4-09; 8:45 am]

BILLING CODE 4910-EX-P